DEPARTMENT OF ENERGY

Federal Energy Regulatory Commission

[Project No. 14241-000]

Alaska Energy Authority; Notice of Extension of Time To File Comments on the Pad and Scoping Document, and To Identify Issues and Associated Study Requests

On February 24, 2012, the Commission issued Notice of Intent to File License Application, Filing of Pre-Application Document (PAD) and Commencement of Pre-Filing Process; Notice of Intent to Prepare an Environmental Impact Statement and Conduct Scoping; Request for Comments on the PAD and Scoping Document, and Identification of Issues and Associated Study Requests. The notice established a due date of April 27, 2012, to file comments on the PAD and the scoping document, and to file study requests for the Susitna-Watana Hydroelectric Project. The U.S. National Park Service, the National Marine Fisheries Service, Bureau of Land Management, and U.S. Fish and Wildlife Service requested an extension of time to May 31, 2012, to file comments and study requests given the complexity of the project and the large number of studies. They also note the need for additional time to review draft study plans prepared by the Alaska Energy Authority (AEA) and to more collaboratively develop study plans with the AEA. On March 26, 2012, AEA filed a letter of support for the extension of time and a request to modify the due date for the initial and updated study report meetings to January 6, 2014 and January 5, 2015, respectively to avoid meetings between Christmas and New Years.

Due to the large size of this original project and the large number of studies proposed to address complex issues, the due date for all participants to file comments and study requests is extended until May 31, 2012, pursuant to section 5.29(f)(2) of the Commission's regulations. This extension will facilitate AEA's unique approach to collaboratively develop study plans and will not delay processing of the license application. AEA's request to modify the due date for the initial and updated study reports is also granted. A revised schedule for this project will be published in Scoping Document 2, which will be issued by July 16, 2012.

Dated: April 2, 2012.
Kimberly D. Bose,
Secretary.

[FR Doc. 2012-8523 Filed 4-9-12; 8:45 am]

BILLING CODE 6717-01-P